DEPARTMENT OF DEFENSE

Office of the Secretary

[Transmittal No. 25-66]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b) arms sales notification is published to fulfill the requirements of section 155 of Public Law 104-164 dated July 21, 1996. The following is a copy of a letter to the Speaker of the House of Representatives with attached Transmittal 25-66, Policy Justification, and Sensitivity of Technology.

Dated: January 22, 2026.
Stephanie J. Bost,
Alternate OSD Federal Register Liaison Officer, Department of Defense.

BILLING CODE 6001-FR-P

BILLING CODE 6001-FR-C

Transmittal No. 25-66

Notice of Proposed Issuance of Letter of Offer Pursuant to Section 36(b)(1) of the Arms Export Control Act, as amended

(i) Prospective Purchaser: Government of Belgium

(ii) Total Estimated Value:

Major Defense Equipment * | $505.0 million
Other | $ 62.8 million
TOTAL | $567.8 million

(iii) Description and Quantity or Quantities of Articles or Services under Consideration for Purchase:

Major Defense Equipment (MDE):

Three hundred twenty (320) AIM-9X Block II Sidewinder tactical missiles

Two hundred fifty-eight (258) AIM-9X Block II+ Sidewinder tactical missiles

Fifty (50) AIM-9X Block II tactical guidance units

Thirty (30) AIM-9X Block II+ tactical guidance units

Non-Major Defense Equipment:

The following non-MDE items will also be included: missile containers; weapon software; transportation; United States (U.S.) Government and contractor engineering, technical, and logistical support services; and other related elements of logistics and program support.

(iv) Military Department: Navy (BE-P-ADC)

(v) Prior Related Cases, if any: None

(vi) Sales Commission, Fee, etc., Paid, Offered, or Agreed to be Paid: None known at this time

(vii) Sensitivity of Technology Contained in the Defense Article or Defense Services Proposed to be Sold: See Attached Annex

(viii) Date Report Delivered to Congress: September 15, 2025

* as defined in Section 47(6) of the Arms Export Control Act.

POLICY JUSTIFICATION

Belgium—AIM-9X Sidewinder Missiles

The Government of Belgium has requested to buy three hundred twenty (320) AIM-9X Block II Sidewinder tactical missiles; two hundred fifty-eight (258) AIM-9X Block II+ Sidewinder tactical missiles; fifty (50) AIM-9X Block II tactical guidance units; and thirty (30) AIM-9X Block II+ tactical guidance units. The following non-Major Defense Equipment items will also be included: missile containers; weapon software; transportation; U.S. Government and contractor engineering, technical, and logistical support services; and other related elements of logistics and program support. The estimated total cost is $567.8 million.

This proposed sale will support the foreign policy and national security objectives of the U.S. by improving the security of a NATO Ally that is a force for political stability and economic progress in Europe.

The proposed sale will improve Belgium's capability to meet current and future threats by providing air-to-air missiles and guidance units for Belgium's F-35 fleet in support of NATO's defense mission. Belgium will have no difficulty absorbing these weapons into its armed forces.

The proposed sale of this equipment and support will not alter the basic military balance in the region.

The principal contractor will be RTX Corporation, located in Arlington, VA. At this time, the U.S. Government is not aware of any offset agreement proposed in connection with this potential sale. Any offset agreement will be defined in negotiations between the purchaser and the contractor.

Implementation of the proposed sale will require the assignment of four U.S. Government and two contractor representatives to Belgium on a temporary basis in conjunction with program technical oversight and support requirements.

There will be no adverse impact on U.S. defense readiness as a result of this proposed sale.

Transmittal No. 25-66

Notice of Proposed Issuance of Letter of Offer Pursuant to Section 36(b)(1) of the Arms Export Control Act

Annex

Item No. vii

(vii) Sensitivity of Technology:

1. The AIM-9X Sidewinder Block II and Block II+ missile represents a substantial increase in missile acquisition and kinematics performance over the AIM-9M and replaces the AIM-9X Block I missile configuration. The missile includes a high off-boresight seeker, enhanced countermeasure rejection capability, low drag/high angle of attack airframe, and the ability to integrate the helmet mounted cueing system. The software algorithms are the most sensitive portion of the AIM-9X missile. The software continues to be modified via a pre-planned product improvement (P³I) program to improve its counter-countermeasure capabilities. The most current AIM-9X Block II/II+ operational flight software developed for all international partner countries, which is authorized by U.S. Government export policy, provides fifth-generation infrared missile capabilities such as Lock-on after launch, weapon data link, surface attack, and surface launch. No software source code or algorithms will be released.

2. The highest level of classification of defense articles, components, and services included in this potential sale is SECRET.

3. If a technologically advanced adversary were to obtain knowledge of the specific hardware and software elements, the information could be used to develop countermeasures that might reduce system effectiveness or be used in the development of a system with similar or advanced capabilities.

4. A determination has been made that Belgium can provide substantially the same degree of protection for the sensitive technology being released as the U.S. Government. This proposed sale is necessary in furtherance of the U.S. foreign policy and national security objectives outlined in the Policy Justification.

5. All defense articles and services listed in this transmittal have been authorized for release and export to the Government of Belgium.

[FR Doc. 2026-01501 Filed 1-26-26; 8:45 am]

BILLING CODE 6001-FR-P